ENVIRONMENTAL PROTECTION AGENCY

[FRL-7574-3]

Meeting on Papers Addressing Scientific Issues in the Risk Assessment of Metals

AGENCY: Environmental Protection Agency.

ACTION: Notice of meeting.

SUMMARY: Today the U.S. Environmental Protection Agency (EPA) announces an October 28, 2003, public meeting on five draft scientific white papers on metals risk assessment. Development of the papers was led by Eastern Research Group Inc., a contractor to EPA. The notice of availability of these papers for review and comment was published in an earlier Federal Register Notice (68 FR 55051, September 22, 2003). Consistent with EPA's commitment to provide opportunities for external input, the Agency now announces a public meeting to gather further feedback on the draft papers. In order to assist in compiling comments on the issue papers, the Agency asks that commenters address questions posed in the September 22, 2003, Federal Register Notice. These questions are reprinted below under SUPPLEMENTARY INFORMATION. ERG, the EPA contractor who lead the development of the issue papers, is organizing and convening the meeting.

DATES: The public meeting will be held Tuesday, October 28, 2003, from 9:30 a.m. to 5 p.m. Eastern Standard Time. Participants wishing to attend are asked to register with ERG by October 21, 2003.

ADDRESSES: The public meeting will be held at the Hotel Washington, 515 15th Street at Pennsylvania Avenue, NW., Washington, DC 20004. You may register online at https://www.ergweb.com/projects/metalreg/index.html. You may also register by calling ERG at (781) 674-7374. Space is limited and reservations will be accepted on a first-come, first-served basis. Please let ERG know if you plan to make comments at the meeting.

EPA has established an official public docket for comments under Docket Identification Number OAR-2003-0192. An electronic version of the public docket is available through EPA's electronic public docket and comment system, EPA Dockets. Comments may be submitted and reviewed on-line at http://www.epa.gov/edocket as detailed in the earlier Federal Register Notice (68 FR 55051, September 22, 2003) entitled “Papers Addressing Scientific Issues in the Risk Assessment of Metals”.

FOR FURTHER INFORMATION CONTACT: For meeting information, registration, and logistics, contact ERG, 110 Hartwell Avenue, Lexington, Massachusetts 02421; telephone: (781) 674-7374; facsimile: (781) 674-2906.

For technical information on the white papers, contact Dr. William P. Wood, Executive Director, Risk Assessment Forum, National Center for Environmental Assessment, Office of Research and Development; telephone: (202) 564-3361; facsimile: (202) 565-0062; or email: risk.forum@epa.gov.

SUPPLEMENTARY INFORMATION: Presentations: Members of the public who are interested in making a short presentation on scientific issues at the meeting are requested to indicate this interest at the time of registration. EPA would appreciate provision of a short summary of the presentation, which should be no more than one page. Please provide this summary in written and electronic format upon arrival at the meeting. Presentations should be no more than 20 minutes in duration, subject to the number of presentations registered. Because EPA is seeking a variety of opinions, the facilitator will ensure that there is a balance of time allotted. Presenters please note that ERG may record the meeting proceedings to support their developing a meeting summary report. Resources ERG uses in the development of the report will remain the property of ERG. EPA will make the summary report available on-line through the Risk Assessment Forum's Web site, http://cfpub.epa.gov/ncea/raf/.

Comments: Comments presented during the meeting should be submitted to Edocket. In addition, please submit one unbound original set of comments with pages numbered consecutively at the meeting. For attachments, provide an index and number pages consecutively with the comments. Because all comments received will be placed in Edocket, commentors should not submit personal information (such as medical data or home address), Confidential Business Information, or information protected by copyright.

SUPPLEMENTARY INFORMATION: During their September 2002 review of the Agency's draft action plan for the development of a metals framework, the EPA Science Advisory Board emphasized the importance of engaging the outside community so as to contribute to the knowledge base the Agency would draw from in developing guidance on the risk assessment of metals. As part of the effort to engage stakeholders and the scientific community and to build on existing experience, the Agency commissioned ERG to organize external experts to lead the development of scientific papers on issues and state-of-the-art approaches to metals risk assessment. (Some individual EPA experts contributed specific discussions on topic(s) for which he or she has scientific expertise or knowledge of current Agency practice.)

On September 22, 2003, EPA published a Federal Register Notice announcing the availability of, and opportunity to comment on, five draft scientific white papers titled: (1) Issue Paper on the Environmental Chemistry of Metals, (2) Issue Paper on Metal Exposure Assessment, (3) Issue Paper on the Ecological Effects of Metals, (4) Issue Paper on the Human Health Effects of Metals, and (5) Issue Paper on the Bioavailability and Bioaccumulation of Metals. The draft issue papers are available primarily via the Internet on the Risk Assessment Forum's web page at http://cfpub.epa.gov/ncea/raf/recordisplay.cfm?deid=59052. Comments will be received on the draft papers until November 7, 2003.

The public meeting will provide further opportunity for the Agency to receive stakeholder input. EPA is particularly interested in the public's perspectives on the following:

1. For the purpose of deriving general principles that can be applied in the assessment of metals, do the issue papers provide an appropriate level of detail?

2. Are there additional chemical, biological and physical processes that should be considered for metals assessment? If so, please describe and provide references.

3. Are you aware of any models, approaches or methods not considered in the reports that, if implemented, would substantially reduce uncertainty in the Agency's metal assessments? If so, which ones are ready for application now (or in the next few years), and which types of assessments would benefit most from their application (e.g., hazard ranking/characterization, national, or site-specific assessments)?

4. What other suggestions do you have to improve the utility of these papers as the Agency develops a metals assessment framework?

The purpose of this meeting is for EPA to receive additional scientific comment from the public on the issue papers. Therefore, although EPA staff will be present, EPA will not evaluate or respond to comments at the meeting. Likewise, EPA is not soliciting comments on past Agency actions.

The views expressed in the draft papers are those of the authors and do not necessarily reflect the views or policies of the EPA. For this reason, disposition of scientific comments received on these papers will be made at the author's or author team's discretion. The material contained in the papers may be used in total, or in part, as source material for the Agency's framework for metals risk assessment and EPA's evaluation of this material will therefore include consideration of the Assessment Factors recently published by EPA for use in evaluating the quality of scientific and technical information.

Dated: October 7, 2003.
Peter W. Preuss,
Director, National Center for Environmental Assessment.

[FR Doc. 03-25935 Filed 10-10-03; 8:45 am]

BILLING CODE 6560-50-P